DEPARTMENT OF LABOR

Employment and Training Administration

[TA-W-64,396]

Cerro Flow Products, Inc., Sauget, IL; Notice of Revised Determination on Reconsideration

On June 10, 2009, the Department issued an Affirmative Determination Regarding Application for Reconsideration applicable to workers and former workers of the subject firm. The notice was published in the Federal Register on June 18, 2009 (74 FR 28956).

The initial investigation initiated on November 12, 2008, resulted in a negative determination issued on January 14, 2009, was based on the finding that imports of copper tubing did not contribute importantly to worker separations at the subject firm and no shift in production to a foreign source occurred. The denial notice was published in the Federal Register on February 2, 2009 (74 FR 5871).

On reconsideration, the Department requested an additional list of customers of the subject firm and conducted a customer survey to determine whether imports of copper tubing negatively impacted employment at the subject firm.

The sample survey of the declining customers revealed that the customers increased their imports of copper tubing from January through October 2008 over the corresponding 2007 period.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of section 246 have been met.

A significant number of workers at the firm are age 50 or over and possess skills that are not easily transferable. Competitive conditions within the industry are adverse.

Workers of Cerro Flow Products, Inc., Sauget, Illinois were previously certified eligible for TAA under TA-W-59,870. That certification expired on November 3, 2008.

Conclusion

After careful review of the additional facts obtained on reconsideration, I conclude that increased imports of articles like or directly competitive with those produced at Cerro Flow Products, Inc., Sauget, Illinois, contributed importantly to the declines in sales or production and to the total or partial separation of workers at the subject firm. In accordance with the provisions of the Act, I make the following certification:

“All workers of Cerro Flow Products, Inc., Sauget, Illinois, who became totally or partially separated from employment on or after November 4, 2008, through two years from the date of this certification, are eligible to apply for adjustment assistance under Section 223 of the Trade Act of 1974, and are eligible to apply for alternative trade adjustment assistance under Section 246 of the Trade Act of 1974.”

Signed in Washington, DC this 17th day of July 2009.
Elliott S. Kushner,
Certifying Officer, Division of Trade Adjustment Assistance.

[FR Doc. E9-18650 Filed 8-4-09; 8:45 am]

BILLING CODE 4510-FN-P